DEPARTMENT OF HEALTH AND HUMAN SERVICES

National Institutes of Health

Submission for OMB Review; 30-Day Comment Request; NIH Office of Intramural Training & Education—Application, Registration, and Alumni Systems Office of the Director

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Patricia Wagner, Program Analyst, Office of Intramural Training & Education (OITE), Office of Intramural Research (OIR), Office of the Director (OD), National Institutes of Health (NIH); 2 Center Drive: Building 2/Room 2E06; Bethesda, Maryland 20892 or call non-toll-free number 240-476-3619 or Email your request, including your address to: wagnerpa@od.nih.gov.

SUPPLEMENTARY INFORMATION: This proposed information collection was previously published in the Federal Register on November 2, 2020, page 69337 (85 FR 69337) and allowed 60 days for public comment. No public comments were received. The purpose of this notice is to allow an additional 30 days for public comment. The Office of the Director (OD), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: NIH Office of Intramural Training & Education—Application, Registration, and Alumni Systems, 0925-0299, exp., date, 06/30/2022, REVISION, Office of Intramural Training & Education (OITE), Office of Intramural Research (OIR), Office of the Director (OD), National Institutes of Health (NIH).

Need and Use of Information Collection: The Office of Intramural Training & Education (OITE) administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration solicit information including: Personal information, ability to meet eligibility criteria, contact information, university-assigned student identification number, training program selection, scientific discipline interests, educational history, standardized examination scores, reference information, resume components, employment history, employment interests, dissertation research details, letters of recommendation, financial aid history, sensitive data, and travel information, as well as feedback questions about interviews and application submission experiences. Sensitive data collected on the applicants: race, gender, ethnicity, relatives at NIH, and recruitment method, are made available only to OITE staff members or in aggregate form to select NIH offices and are not used by the admission committees for admission consideration. In addition, information to monitor trainee placement after departure from NIH is periodically collected.

OMB approval is requested for 3 years. There are no costs to respondents other than their time. The total estimated annualized burden hours are 13,858.

Estimated Annualized Burden Hours
Type of respondent | Number of respondents | Number of responses per respondent | Average time/ response (hours) | Total annual burden hours
High School Scientific Training & Enrichment Program (HiSTEP)—Orientation | 25 | 1 | 10/60 | 4
HiSTEP2—Orientation | 25 | 1 | 10/60 | 4
HiSTEP & HiSTEP2—Alumni Tracking | 125 | 2 | 30/60 | 125
Summer Internship Program (SIP)—Application | 8,000 | 1 | 45/60 | 6,000
SIP—Recommendation Letters | 16,000 | 1 | 10/60 | 2,667
Amgen Scholars at NIH—Supplemental Application | 535 | 1 | 10/60 | 89
Amgen Scholars at NIH—Feedback | 20 | 1 | 15/60 | 5
Amgen Scholars at NIH—Alumni Tracking | 127 | 1 | 30/60 | 64
Community College Summer Enrichment Program (CCSEP)—Alumni Tracking | 158 | 1 | 10/60 | 26
College Summer Opportunities in Advanced Research (C-SOAR)—Alumni Tracking | 158 | 1 | 10/60 | 26
Graduate Summer Opportunities in Advanced Research (G-SOAR)—Alumni Tracking | 114 | 1 | 30/60 | 57
Graduate Data Science Summer Program (GDSSP)—Alumni Tracking | 30 | 1 | 30/60 | 15
Native American Visit Week—Application | 15 | 1 | 20/60 | 5
Native American Visit Week—Recommendation Letters | 15 | 1 | 10/60 | 3
Native American Visit Week—Feedback | 15 | 1 | 15/60 | 4
Undergraduate Scholarship Program (UGSP)—Application | 125 | 1 | 60/60 | 125
UGSP—Recommendation Letters for Applicants | 375 | 1 | 10/60 | 63
UGSP—Exceptional Financial Need (EFN)—Completed by Applicant | 125 | 1 | 3/60 | 6
UGSP—EFN—Completed by University Staff | 125 | 1 | 15/60 | 31
UGSP—Scholar Contract | 25 | 1 | 10/60 | 4
UGSP—Evaluation of Scholar PayBack Period | 30 | 1 | 15/60 | 8
UGSP—Renewal Application | 15 | 1 | 45/60 | 11
UGSP—Recommendation Letters for Renewals | 15 | 1 | 10/60 | 3
UGSP—Deferment Form—Completed by UGSP Scholar | 25 | 1 | 3/60 | 1
UGSP—Deferment Form—Completed by University Staff | 25 | 1 | 5/60 | 2
Postbaccalaureate Training Program (PBT)—Application | 2,250 | 1 | 45/60 | 1,688
PBT—Recommendation Letters | 6,750 | 1 | 10/60 | 1,125
NIH Academy—Fellow & Certificate Programs Application | 300 | 1 | 15/60 | 75
NIH Academy—Enrichment Program Application | 300 | 1 | 15/60 | 75
Graduate Partnerships Program (GPP)—Application | 325 | 1 | 60/60 | 325
GPP—Recommendation Letters for Application | 975 | 1 | 10/60 | 163
GPP—Interview Experience Survey | 30 | 1 | 10/60 | 5
GPP—Registration | 175 | 1 | 15/60 | 44
GPP—Awards Certificate | 75 | 1 | 30/60 | 38
MyOITE—User Accounts | 6,000 | 1 | 3/60 | 300
MyOITE—NIH Alumni | 500 | 1 | 15/60 | 125
OITE Careers Blog—Success Stories | 7 | 1 | 45/60 | 5
Academic Internship Program (AIP)—Application | 500 | 1 | 45/60 | 375
AIP—Recommendation Letters | 1,000 | 1 | 10/60 | 167
Totals | 45,434 | 45,559 |  | 13,858

Dated: January 31, 2021.
Lawrence A. Tabak,
Principal Deputy Director, National Institutes of Health.

[FR Doc. 2021-02461 Filed 2-4-21; 8:45 am]

BILLING CODE 4140-01-P